DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: Survey of State Research & Development.

Form Number(s): State R&D Coordinator Web Collection; State R&D Agency Web Collection.

Agency Approval Number: None.

Type of Request: New collection.

Burden: 1,378 hours.

Number of Respondents: 832.

Avg. Hours per Response: Coordinator collection—4 hours; Agency collection—1.5 hours.

Needs and Uses: The U.S. Census Bureau is requesting a new collection of state government research and development (R&D) expenditures that will be planned and supported jointly by the Census Bureau and the National Science Foundation (NSF).

This collection is authorized under Title 13, Sections 161 and 182 of the United States Code, which allow the Secretary of Commerce to collect and disseminate “data on * * * governmental receipts, expenditures * * * of states, counties, cities, and other governmental units.” Title 15, Section 1525 of the United States Code also authorizes the Secretary of Commerce “upon the request of any person, firm, organization, or others, public or private, to make special studies on matters within the authority of the Department of Commerce.”

The NSF Act of 1950 includes a statutory charge to “provide a central clearinghouse for the collection, interpretation, and analysis of data on scientific and engineering resources and to provide a source of information for policy formulation by other agencies in the Federal Government.” Under the aegis of this legislative mandate, NSF and its predecessors have sponsored surveys of R&D since 1953. This new survey will expand the scope of R&D collections to include state governments, for which there are no established collection efforts.

NSF currently sponsors surveys of R&D activities of Federal agencies, higher education institutions, and private industries. The results of these existing surveys provide a consistent information base for government officials, industry professionals, and researchers to use in formulating public policy and planning in science and technology. These surveys allow for the analysis of current and historical trends in research and development in the U.S., as well as comparisons with other countries.

The existing NSF surveys, however, do not canvass R&D activities at the state government department or agency level. Collection of data from state government units via this new survey instrument will fill the void that currently exists about our Nation's R&D expenditures.

The Census Bureau, serving as collection agent, will employ a methodology similar to the one used to collect information from state and local governments on established censuses and surveys. This methodology involves identifying a central coordinator in each state who will assist Census Bureau staff in identifying appropriate state departments/agencies to survey. These state contacts will also be able to verify data responses and assist with nonresponse follow-up. The collection approach using a central state contact is used successfully at the Census Bureau in surveys of local school districts, municipal and county governments, and state government finances.

Items on the survey form will include expenditures by performer, source of funding, and type of R&D (e.g., basic research). The scope of the collection includes amounts for all science and engineering outlays, including social science research. R&D capital expenditures, such as research lab construction and the purchase of buildings, will also be collected.

Legislators, policy officials, and researchers rely on statistics to make informed decisions about R&D investment at the Federal, State, and local level. These statistics are derived from the existing NSF sponsored surveys of Federal agencies, higher education institutions, and private industry. The total picture of R&D expenditures, however, is incomplete due to the lack of relevant and timely data from state governments. This survey will fill this void that currently exists.

State government officials and policy makers are likely to garner the most benefit from the results of this survey. Governors and legislatures need a reliable, comprehensive source of data to help in evaluating how best to attract the high-tech, R&D industries to their state. Officials will be able to evaluate their investment in R&D based on comparisons with other states. These comparisons will include the sources of funding, the type of R&D being conducted, and the actual performer of the work.

The information collected from the Survey of State R&D will be used at the Federal level to assess and direct investment in technology and economic issues. Congressional committees and the Congressional Research Service use results of the current R&D surveys extensively. Inquiries made to NSF by congressional staff concerning industry and academic data are well documented. In addition, officials from several Federal agencies make use of the existing data.

NSF will also use data from this survey in various publications produced about the state of R&D in the U.S. The Science and Engineering Indicators series, for example, is a biennial report mandated by Congress and describes quantitatively the condition of the country's R&D efforts. Results will also likely be included in the National Patterns of Research and Development Resources tabulations and in the Science and Engineering Indicators report.

Private industry, either individually or through trade associations, will also find these data useful, particularly statistics concerning funds transferred from state agencies to businesses. The current R&D surveys often receive prominent mention in industry publications such as Research and Development magazine, which recently released its “State of Global R&D” report.

The availability of state R&D data on the Internet will make this survey visible to several other users, as well. Media, university researchers, nonprofit organizations, and foreign government officials are also likely consumers of state R&D statistics. All users will utilize this information in an attempt to better understand the nation's R&D resources.

Affected Public: State, local or tribal government.

Frequency: Annually.

Respondent's Obligation: Voluntary.

Legal Authority: Title 13 U.S.C., Sections 161 and 182; Title 15 U.S.C., Section 1525; NSF Act of 1950.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: September 7, 2006.
Madeleine Clayton,
Management Analyst, Office of the Chief Information Officer.

[FR Doc. E6-15122 Filed 9-12-06; 8:45 am]

BILLING CODE 3510-07-P